DEPARTMENT OF TRANSPORTATION

Federal Railroad Administration

49 CFR Part 243

[FRA Docket No. HST-1; Notice No. 3]

RIN 2130-AB14

FOX High Speed Rail Safety Standards

AGENCY: Federal Railroad Administration (FRA), DOT.

ACTION: Termination of rulemaking.

SUMMARY: This document terminates rulemaking action in FRA Docket No. HST-1. In its Notice of Proposed Rulemaking (NPRM) published on December 12, 1997, FRA proposed to establish safety standards for the Florida Overland eXpress (FOX) high speed rail system. Termination of this rulemaking is based on Florida's decision not to develop the FOX high speed rail system.

FOR FURTHER INFORMATION CONTACT: Christine Beyer, Deputy Assistant Chief Counsel for Safety, Office of Chief Counsel, FRA, 1120 Vermont Avenue, N.W., Stop 10, Washington, D.C. 20590 (telephone: 202-493-6027).

SUPPLEMENTARY INFORMATION: The State of Florida was planning to develop a high speed rail system that would utilize high speed technology and equipment modeled on the French TGV, that would run from Miami to Tampa, via Orlando. On February 18, 1997, the developer of the high speed system, the Florida Overland eXpress (FOX), filed a petition for rulemaking with FRA that proposed safety standards for the proposed high speed rail system. After analyzing the Petition, FRA published a notice of proposed rulemaking (NPRM) (62 FR 65478, December 12, 1997) on the subject that incorporated many of the standards proposed by the FOX Petition and proposed new standards. The funding for this project was to be shared by the public and private sector. However, after publication of the NPRM, the State of Florida decided to withdraw its financial support for the high speed rail system. Consequently, the proposed system will not be constructed.

Termination of Rulemaking

Based on the foregoing information FRA has decided to terminate this rulemaking, as it would have been solely applicable to the FOX high speed rail project. We note that this rulemaking has been a worthwhile first step in addressing the safety concerns inherent in the implementation of certain high speed rail operations. We are confident that further steps in addressing these concerns will build upon the information and discussion generated by this proceeding. In light of the foregoing, FRA is hereby terminating this rulemaking.

Issued in Washington, DC on August 11, 2000.
Jolene M. Molitoris,
Administrator.

[FR Doc. 00-21261 Filed 8-21-00; 8:45 am]

BILLING CODE 4910-06-P